DEPARTMENT OF ENERGY

Federal Energy Regulatory Commission

Combined Notice of Filings #1

September 6, 2006.

Take notice that the Commission received the following electric rate filings.

Docket Numbers: ER99-830-017; ER04-925-011.

Applicants: Merrill Lynch Commodities, Inc.; Merrill Lynch Capital Services, Inc.

Description: Merrill Lynch Commodities, Inc. submits an errata to amend its 7/24/06 filing to include Merrill Lynch Capital Services, Inc. to its notice of change in status.

Filed Date: 08/30/2006.

Accession Number: 20060905-0082.

Comment Date: 5 p.m. Eastern Time on Wednesday, September 20, 2006.

Docket Numbers: ER99-1610-017.

Applicants: Southwestern Public Service Company.

Description: Xcel Energy Services, Inc. on behalf of Southwestern Pub. Svc. Co., submits revised tariff sheets to its, Second Revised Volume No. 3.

Filed Date: 08/31/2006.

Accession Number: 20060905-0099.

Comment Date: 5 p.m. Eastern Time on Thursday, September 21, 2006.

Docket Numbers: ER00-2738-006; ER99-1004-007; ER00-2740-006; ER01-1721-004; ER02-564-004.

Applicants: Entergy Nuclear Fitzpatrick, LLC; Entergy Nuclear Generation Company; Entergy Nuclear Indian Point 3, LLC; Entergy Nuclear Indian Point 2, LLC; Entergy Nuclear Vermont Yankee, LLC.

Description: Entergy Services, Inc., on behalf of Entergy Nuclear Generation Co. et al., submits modifications to its market based rate tariffs pursuant to FERC's 7/31/06 Order.

Filed Date: 08/30/2006.

Accession Number: 20060906-0011.

Comment Date: 5 p.m. Eastern Time on Wednesday, September 20, 2006.

Docket Numbers: ER05-1178-004; ER05-1191-004.

Applicants: Gila River Power, L.P.; Union Power Partners, L.P.

Description: Gila River Power, LP and Union Power Partners, LP submits a Notice of Material Change of Status.

Filed Date: 08/31/2006.

Accession Number: 20060905-0096.

Comment Date: 5 p.m. Eastern Time on Thursday, September 21, 2006.

Docket Numbers: ER06-199-002.

Applicants: PJM Interconnection, LLC.

Description: PJM Interconnection LLC submits Substitute Original Sheet 509 et al., to Electric Tariff, Sixth Revised Volume No 1.

Filed Date: 08/31/2006.

Accession Number: 20060905-0100.

Comment Date: 5 p.m. Eastern Time on Thursday, September 21, 2006.

Docket Numbers: ER06-320-001.

Applicants: Southwestern Public Service Company.

Description: Xcel Energy Services Inc., on behalf of Southwestern Public Service Company submits Rate Schedule 133—Transaction Agreement for Total Requirements Power Service with Tri-County Electric Cooperative Inc.

Filed Date: 08/30/2006.

Accession Number: 20060905-0083.

Comment Date: 5 p.m. Eastern Time on Wednesday, September 20, 2006.

Docket Numbers: ER06-900-002.

Applicants: Vermont Electric Power Company; Vermont Transco, LLC.

Description: Vermont Electric Power Company et al., submits revised FERC Rate Schedules 2-6 to comply with Order 614.

Filed Date: 08/31/2006.

Accession Number: 20060905-0031.

Comment Date: 5 p.m. Eastern Time on Thursday, September 21, 2006.

Docket Numbers: ER06-917-002.

Applicants: PacifiCorp.

Description: PacifiCorp submits an errata to its 8/21/06 filing of their Open Access Transmission Tariff, in compliance with FERC's 7/13/06 Letter Order.

Filed Date: 08/31/2006.

Accession Number: 20060906-0026.

Comment Date: 5 p.m. Eastern Time on Thursday, September 21, 2006.

Docket Numbers: ER06-1222-001.

Applicants: PEAK Capital Management, LLC.

Description: PEAK Capital Management, LLC, submits a statement that declares that none of its officers work for any other entity other than PEAK.

Filed Date: 08/11/2006.

Accession Number: 20060815-0191.

Comment Date: 5 p.m. Eastern Time on Tuesday, September 12, 2006.

Docket Numbers: ER06-1222-002.

Applicants: PEAK Capital Management, LLC.

Description: PEAK Capital Management, LLC, submits a statement that its partners do not work for any other entity other than affiliation with any entities within any energy industry.

Filed Date: 08/16/2006.

Accession Number: 20060828-0029.

Comment Date: 5 p.m. Eastern Time on Tuesday, September 12, 2006.

Docket Numbers: ER06-1334-001.

Applicants: Spindle Hill Energy, LLC.

Description: Spindle Hill Energy, LLC, submits amendment to its 8/3/06 filed application.

Filed Date: 08/31/2006.

Accession Number: 20060905-0097.

Comment Date: 5 p.m. Eastern Time on Thursday, September 21, 2006.

Docket Numbers: ER06-1348-001.

Applicants: Katmai Energy, LLC.

Description: Katmai Energy, LLC, submits an Amendment to the Petition for Acceptance of Initial Rate Schedule, Waiver and Blanket Authority.

Filed Date: 08/29/2006.

Accession Number: 20060901-0060.

Comment Date: 5 p.m. Eastern Time on Tuesday, September 19, 2006.

Docket Numbers: ER06-1433-000.

Applicants: Southern Company Services, Inc.

Description: Southern Companies submits its Annual Filing of Revised Accruals for Post Retirement Benefits Other Than Pensions.

Filed Date: 08/31/2006.

Accession Number: 20060905-0058.

Comment Date: 5 p.m. Eastern Time on Thursday, September 21, 2006.

Docket Numbers: ER06-1434-000.

Applicants: ISO New England Inc.

Description: ISO New England, Inc submits a non-conforming Market Participate Service Agreement with North America Power Partners, LLC.

Filed Date: 08/31/2006.

Accession Number: 20060905-0074.

Comment Date: 5 p.m. Eastern Time on Thursday, September 21, 2006.

Docket Numbers: ER06-1435-000.

Applicants: Pacific Gas and Electric Company.

Description: Pacific Gas and Electric Company submits a Service Agreement and an Interconnection Agreement with Lathrop Irrigation District.

Filed Date: 08/31/2006.

Accession Number: 20060905-0179.

Comment Date: 5 p.m. Eastern Time on Thursday, September 21, 2006.

Docket Numbers: ER06-1436-000.

Applicants: Entergy Services Inc.

Description: Entergy Services, Inc as agent for Entergy Operating Companies submits a Long-Term Firm Point-to-Point Transmission Service Agreements with Plum Point Energy Associates, LLC et al.

Filed Date: 08/31/2006.

Accession Number: 20060905-0081.

Comment Date: 5 p.m. Eastern Time on Thursday, September 21, 2006.

Docket Numbers: ER06-1437-000.

Applicants: Kentucky Utilities Company: Kentucky Utilities Company.

Description: E.ON U.S., LLC on behalf of Louisville Gas and Electric Co and Kentucky Utilities Co submits an unexecuted Firm Point-to-Point transmission service agreement with the Indiana Municipal Power Agency.

Filed Date: 08/31/2006.

Accession Number: 20060905-0080.

Comment Date: 5 p.m. Eastern Time on Thursday, September 21, 2006.

Docket Numbers: ER06-1438-000.

Applicants: Louisville Gas & Electric Company; Kentucky Utilities Company; LG&E Energy Marketing Inc.

Description: Louisville Gas and Electric Co, Kentucky Utilities Co and LG&E Energy Marketing Inc submit proposed tariffs for cost-based sales of capacity and energy.

Filed Date: 08/31/2006.

Accession Number: 20060905-0079.

Comment Date: 5 p.m. Eastern Time on Thursday, September 21, 2006.

Docket Numbers: ER06-1439-000.

Applicants: Midwest Independent Transmission System Operator, Inc.

Description: Midwest Independent Transmission System Operator, Inc submits proposed revisions to their Open Access Transmission and Energy Markets Tariff.

Filed Date: 08/31/2006.

Accession Number: 20060905-0078.

Comment Date: 5 p.m. Eastern Time on Thursday, September 21, 2006.

Docket Numbers: ER06-1440-000.

Applicants: Midwest Independent Transmission System Operator, Inc.; Midwest ISO Transmission Owners; Midwest Stand Transmission Companies.

Description: Midwest Independent Transmission System Operator, Inc et al submit proposed revisions to the Midwest ISO Agreement.

Filed Date: 08/31/2006.

Accession Number: 20060905-0077.

Comment Date: 5 p.m. Eastern Time on Thursday, September 21, 2006.

Docket Numbers: ER06-1441-000.

Applicants: Midwest Independent Transmission System Operator, Inc.

Description: Midwest Independent Transmission System Operator, Inc submits an unexecuted Large Generator Interconnection Agreement with Consumers Energy Co et al.

Filed Date: 08/31/2006.

Accession Number: 20060905-0076.

Comment Date: 5 p.m. Eastern Time on Thursday, September 21, 2006.

Docket Numbers: ER06-1442-000.

Applicants: American Transmission Company.

Description: American Transmission Company LLC submits its Amendment 2 to the Amended and Restated Generation-Transmission Interconnection Agreement with Wisconsin Electric Power Co et al.

Filed Date: 08/31/2006.

Accession Number: 20060905-0038.

Comment Date: 5 p.m. Eastern Time on Thursday, September 21, 2006.

Docket Numbers: ER06-1443-000: ER04-372-005.

Applicants: Pennsylvania Power Company; Metropolitan Edison Company; Pennsylvania Electric Company; The Cleveland Electric Illuminating Company; Ohio Edison Company; The Toledo Electric Company.

Description: FirstEnergy Service Co on behalf of Pennsylvania Power co et al submit an initial and amended market-based rate tariff and notice of cancellation.

Filed Date: 08/31/2006.

Accession Number: 20060905-0029.

Comment Date: 5 p.m. Eastern Time on Thursday, September 21, 2006.

Docket Numbers: ER06-1444-000.

Applicants: Midwest Independent Transmission System Operator, Inc.

Description: Midwest Independent Transmission System Operator, Inc submits its unexecuted Amended and Restated Generator Interconnection Agreement.

Filed Date: 08/31/2006.

Accession Number: 20060905-0095.

Comment Date: 5 p.m. Eastern Time on Thursday, September 21, 2006.

Docket Numbers: ER06-1445-000.

Applicants: UGI Utilities, Inc.

Description: UGI Utilities, Inc submits proposed revised tariff sheets to their FERC Open Access Transmission Tariff administered by PJM Interconnection, LLC.

Filed Date: 08/31/2006.

Accession Number: 20060905-0094.

Comment Date: 5 p.m. Eastern Time on Thursday, September 21, 2006.

Docket Numbers: ER06-1447-000.

Applicants: PacifiCorp.

Description: PacifiCorp's submits proposed revisions to its OATT in compliance with Orders 2006-B and 676.

Filed Date: 08/31/2006.

Accession Number: 20060905-0183.

Comment Date: 5 p.m. Eastern Time on Thursday, September 21, 2006.

Docket Numbers: ER06-1455-000.

Applicants: Westar Energy, Inc.

Description: Westar Energy, Inc submits its Participation Power Agreement with Mid-Kansas Electric Company LLC.

Filed Date: 08/31/2006.

Accession Number: 20060906-0014.

Comment Date: 5 p.m. Eastern Time on Thursday, September 21, 2006.

Docket Numbers: ER06-1456-000.

Applicants: Westar Energy, Inc.

Description: Westar Energy, Inc submits its Third Revised Rate Schedule 300, Control Area Services Agreement with the Missouri Joint Municipal Electric Utility Commission.

Filed Date: 08/31/2006.

Accession Number: 20060906-0010.

Comment Date: 5 p.m. Eastern Time on Thursday, September 21, 2006.

Docket Numbers: ER06-1457-000.

Applicants: Louisville Gas & Electric Company; Kentucky Utilities Company.

Description: E.ON US, LLC on behalf of Louisville Gas and Electric Co et al. submits unexecuted agreements with Illinois Municipal Electric Agency.

Filed Date: 08/31/2006.

Accession Number: 20060906-0013.

Comment Date: 5 p.m. Eastern Time on Thursday, September 21, 2006.

Docket Numbers: ER06-1458-000.

Applicants: Louisville Gas & Electric Company; Kentucky Utilities Company.

Description: Louisville Gas & Electric Co et al submit an unexecuted Service Agreement for Network Integration Transmission Service et al with East Kentucky Power Cooperative.

Filed Date: 08/31/2006.

Accession Number: 20060906-0020.

Comment Date: 5 p.m. Eastern Time on Thursday, September 21, 2006.

Docket Numbers: ER06-1459-000.

Applicants: NRG Energy Center Dover LLC.

Description: NRG Energy Center Dover LLC submits its proposed FERC Electric Tariff, Original Volume 2 and supporting cost data.

Filed Date: 08/31/2006.

Accession Number: 20060906-0019.

Comment Date: 5 p.m. Eastern Time on Thursday, September 21, 2006.

Docket Numbers: ER06-1460-000.

Applicants: Entergy Solutions Supply, Ltd.

Description: Entergy Solutions Supply, Ltd submits a Notice of Cancellation of their FERC Electric Rate Schedule 1.

Filed Date: 08/31/2006.

Accession Number: 20060906-0018.

Comment Date: 5 p.m. Eastern Time on Thursday, September 21, 2006.

Docket Numbers: ER06-1461-000.

Applicants: Southern California Edison Company.

Description: Southern California Edison Company submits Revised Sheets to its Facilities Agreement with Southern California Public Power Authority.

Filed Date: 08/31/2006.

Accession Number: 20060906-0021.

Comment Date: 5 p.m. Eastern Time on Thursday, September 21, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-15149 Filed 9-12-06; 8:45 am]

BILLING CODE 6717-01-P